FEDERAL DEPOSIT INSURANCE CORPORATION

Privacy Act of 1974; System of Records; Correction

AGENCY: Federal Deposit Insurance Corporation.

ACTION: Notice of a modified systems of records; correction.

SUMMARY: The Federal Deposit Insurance Corporation (FDIC) published a System of Records Notice (SORN) in the Federal Register of July 22, 2019, that modified a System of Records titled “Financial Institution Investigative and Enforcement Records, FDIC-30-64-0002.” Subsequent to the publication of the notice, FDIC discovered an error. This notice corrects that error.

DATES: This correction is effective on April 14, 2021.

FOR FURTHER INFORMATION CONTACT: Shannon Dahn, Chief, Privacy Section, (703) 516-1162, Privacy@fdic.gov, or Gary Jackson, Counsel, (703) 562-2677, gjackson@fdic.gov.

SUPPLEMENTARY INFORMATION:

Correction

In the Federal Register of July 22, 2019, in FR Doc 2019-15280, on page 35188, in the first column, after EXEMPTIONS PROMULGATED FOR THE SYSTEM, please correct the following:

Delete in entirety “None” and insert “Portions of the records in this system of records were compiled for law enforcement purposes and are exempt from disclosure under 12 CFR 310.13 and 5 U.S.C. 552a(k)(2). Federal criminal law enforcement investigatory reports maintained as part of this system may be the subject of exemptions imposed by the originating agency pursuant to 5 U.S.C. 552a(j)(2).”

Federal Deposit Insurance Corporation.
Dated at Washington, DC, on April 5, 2021.
James P. Sheesley,
Assistant Executive Secretary.

[FR Doc. 2021-07591 Filed 4-13-21; 8:45 am]

BILLING CODE 6714-01-P